ADVISORY COUNCIL ON HISTORIC PRESERVATION

Program Comment on Stewardship and Management of National Park Service Mission 66-Era Facilities (1945-1972)

AGENCY: Advisory Council on Historic Preservation

ACTION: Notice of approval of program comment.

SUMMARY: The Advisory Council on Historic Preservation (ACHP) has approved a program comment to facilitate continued use and preservation of Mission 66-era historic properties.

DATES: The program comment went into effect on November 4, 2024.

FOR FURTHER INFORMATION CONTACT: Kirsten Kulis, (202) 517-0217, kkulis@achp.gov.

SUPPLEMENTARY INFORMATION: Section 106 of the National Historic Preservation Act, 54 U.S.C. 306108 (Section 106 and NHPA), requires Federal agencies to consider the effects of projects they carry out, license/permit/approve, or assist (undertakings) on historic properties, and provide the Advisory Council on Historic Preservation (ACHP) a reasonable opportunity to comment with regard to such undertakings. The ACHP has issued the regulations that set forth the process through which Federal agencies comply with these duties. Those regulations are codified under 36 CFR part 800 (Section 106 regulations).

Under section 800.14(e) of those regulations, agencies can request the ACHP to provide a “Program Comment” on a particular category of undertakings in lieu of conducting individual reviews of each individual undertaking under such category, as set forth in 36 CFR 800.4 through 800.7. An agency can meet its Section 106 responsibilities with regard to the effects of those undertakings by taking into account an applicable Program Comment and following the steps set forth in that comment.

The U.S. Department of the Interior, National Park Service (NPS) sought a Program Comment to facilitate continued use and preservation of Mission 66-era historic properties. On November 4, 2024, the ACHP issued such a Program Comment, the text of which is reproduced at the end of this notice, with various typographical errors corrected.

I. Background

“Mission 66” refers to the massive building campaign that occurred between 1945 and 1972 that improved, standardized, and democratized the public's national park experience with new facilities including comfort stations, picnic shelters, campgrounds, visitor centers, park staff housing, maintenance buildings, warehouses, roads, and other infrastructure. This period of feverish construction was called “Mission 66” because it was supposed to have been completed by 1966, in time for the fiftieth anniversary of the founding of the NPS.

The NPS requested a Program Comment (PC) to facilitate continued use and preservation of Mission 66-era historic properties by providing parks with an optional tool that would reduce or eliminate external reviews for certain straightforward Mission 66-era focused undertakings. It would also allow superintendents to consider Mission 66-era facilities as eligible for listing in the National Register of Historic Places (National Register) when they reference the Mission 66-Era Multiple Property Determination Form (MPDF), thereby addressing NPS's identification backlog. Recent laws provided NPS with funding and charged them with improving the visitor experience and addressing accessibility requirements. NPS plans to meet these mandates using these facilities and reinvesting in the historic properties from this era.

II. Program Comment Summary

The PC is intended to be an optional compliance tool and park superintendents will not be required to use it. Moreover, the PC cannot be used in a variety of circumstances including:

—when there's potential to affect National Historic Landmarks, historic battlefields, burial sites, human remains, and/or funerary objects, or if an undertaking is proposed to occur on or affect historic properties located on Tribal lands (as defined in the NHPA), or there's potential to affect properties of religious and cultural significance to Indian Tribes or Native Hawaiian Organizations, or to the Native Hawaiian Community;

—when there may be adverse effects to historic properties that are significant for reasons other than Mission 66 (e.g., not primarily National Register -eligible or -listed due any association with the Mission 66-era as it is described in the MPDF); or

—when there's potential for adverse effects to Mission 66-era historic properties such that they would become ineligible for National Register listing or candidates for de-listing.

The PC will not amend or change the existing Programmatic Agreement among the National Park Service (U.S. Department of the Interior), the Advisory Council on Historic Preservation, and the National Conference of State Historic Preservation Officers for Compliance with Section 106 of the National Historic Preservation Act (2008 PA), nor any other valid Section 106 agreements.

The implementation of the PC will include regional and national oversight and reporting, as well as regular training, to ensure accountability. The PC will facilitate nationwide implementation of the aforementioned MPDF, so that NPS may achieve a broader perspective in managing these properties and they may be understood within their national context. The NPS believes that the PC will encourage reuse of Mission 66 era resources.

III. NPS Consultation Summary

The PC is the product of more than a year of early coordination as well as formal NPS consultation which was initiated last Fall and closed this past Summer. NPS determined the development of this request required government-to-government consultation with Tribes. NPS held six virtual formal consultation meetings that were attended by sixty-two (62) external participants. This included two government-to-government consultation meetings with Tribes. The other four formal meetings were attended by State Historic Preservation Officers (SHPO) from twenty (20) separate states and other stakeholders. In addition to the comments from Tribes described immediately below, NPS received a total of sixteen (16) correspondences including from eight SHPOs, three members of the public, and the National Trust for Historic Preservation.

NPS received one verbal comment about identification from one Tribal representative who participated in one of the meetings and NPS responded via email. Over the course of the NPS comment period, NPS received four written comment letters from Tribes. One had specific questions about a park and their comments are confidential; one was not concerned because the proposed PC would not be used as a method of Section 106 compliance for undertakings with potential to affect Tribal lands and/or properties of religious or cultural significance to Tribes; and two others declined to participate but wanted to be made aware if there was an unanticipated discovery. NPS responded to each of these directly.

Some of the comments from the SHPOs emphasized that qualified NPS staff must be involved in all aspects of project planning and execution, especially given the nuanced approach to adverse effects in the PC. Other SHPOs noted that the proposed fifteen (15) calendar day review period was too short for “meaningful” comments, and that NPS should use proprietary (e.g., State) databases to enter project information instead of providing information on Planning, Environment, and Public Comment (PEPC) and emailing stakeholders. Comments from SHPOs, the National Trust for Historic Preservation, and members of the public also indicated concern that mitigation should be commensurate with the adverse effects associated with the specific undertakings, and inquired about how the mitigation will benefit the public.

NPS considered all comments received in consultation and responded directly to written comments. NPS changed certain aspects of the PC to address the comments, adding or clarifying language in the PC regarding qualified personnel, park suspension, use on Tribal lands (it will not be so used), consultation responsibilities and confidentiality. At that time, NPS did not adjust the proposed fifteen (15) calendar day review period. However, NPS responded that the accelerated timeframe will better allow Parks to focus on other more complex projects using the standard Section 106 process. Also, NPS clarified that Park Superintendents will notify the relevant SHPO and/or THPO and potentially interested Indian Tribe, Native Hawaiian Organization or others in the Native Hawaiian Community or Alaska Natives via email, hard-copy letter via mail or mail service (or an alternative method arranged in advance in writing) when external review process (ERP) packages are available for review and comment.

Finally, NPS clarified that NPS will provide mitigation for collective adverse effects to Mission 66-era historic properties at the national level, rather than park-/undertaking-specific approaches. However, ERP packages must identify mitigation measures, and the Federal Preservation Officer must track mitigation progress annually. NPS also added a requirement for NPS to develop a brief web-based on-demand training for use by internal and external partners. NPS provided drafts of PC to the ACHP and made various changes to address ACHP staff comments.

In summary, NPS addressed consulting party comments on the PC conceptual overview and outline/plan and made substantive changes in preparation of the PC based on that consultation. NPS subsequently prepared the PC draft, in coordination with ACHP through several iterations of review and comment. NPS addressed all ACHP staff comments and submitted the resulting final PC for ACHP action.

IV. ACHP Consultation Summary

ACHP initiated consultation on August 26, 2024, and held two virtual consultation meetings; one was with SHPOs, and one was government-to-government consultation with Indian Tribes. The meetings were attended by thirty-five (35) external participants, including representatives from seventeen (17) SHPOs, and four THPOs as well as staff from the National Conference of State Historic Preservation Officers and the National Association of Tribal Historic Preservation Officers (NATHPO). ACHP also posted a dedicated website and accepted public comments through October 18, 2024. ACHP members discussed the PC at a Regulations and Governance Committee meeting on October 7, 2024. ACHP received twelve (12) correspondences from SHPOs and one from NATHPO, totaling eighty (80) comments. ACHP responded directly to all written correspondences.

About thirty (30) of the comments were addressed with minor edits or clarifications. The remaining comments focused on the topics below and were addressed with substantive changes listed in order of magnitude:

—External Review Process: The steps in this clause were clarified and the review period was extended to fifteen (15) business days with an optional additional five (5) business day review and consultation period for handling objections. The requirements for objections were specified, and it was made clear that objections are made by the relevant SHPO/THPO, Indian Tribe, or Native Hawaiian organizations or others in the Native Hawaiian Community or Alaska Natives.

—Special External Review Process for Certain Findings of No Historic Properties: Additional language in this clause clarifies that a special external review must occur when a Park Superintendent makes a finding that a Mission 66-era facility is no longer historic because it lacks integrity. It also explains that the main purpose of the review is to confirm that there are no properties of religious and cultural significance to an Indian Tribe or to Native Hawaiian organizations or others in the Native Hawaiian Community or Alaska Natives.

—Discoveries: This clause was expanded to provide step-by-step instructions for Park Superintendents, to reference the Native American Graves Protection and Repatriation Act (25 U.S.C. 3001 et seq.), and to state, “When applicable, the Park Superintendent will consider the principles within the ACHP's Policy Statement on Burial Sites, Human Remains, and Funerary Objects, dated March 1, 2023.” The clause also states that the NPS will fulfill its Tribal and Native Hawaiian consultation obligations “consistent with all relevant Executive Orders, Secretary's Orders, the Department of the Interior Departmental Manual, and NPS Director's Orders and Related Guidance. NPS recognizes and considers Indigenous Knowledge in the Section 106 review process in accordance with the November 30, 2022 Guidance for Federal Departments and Agencies on Indigenous Knowledge issued by the White House Office of Science and Technology Policy and Council on Environmental Quality and the Departmental Manual (301 DM 7, Departmental Responsibilities for Consideration and Inclusion of Indigenous Knowledge in Departmental Actions and Scientific Research).”

—Mitigation: This clause commits NPS to developing and publishing an Administrative History of NPS Housing which will be completed as part of a partnership with the NPS History Program and a public university and made publicly available by the spring of 2027. It also commits NPS to publishing an MPDF reference guide for internal and external partners within about six (6) months. In addition, the agency will develop a brief web-based on-demand training for use by internal and external partners within one (1) year of the publication of the PC in the Federal Register.

—Park Suspension: New language in this clause specifies that the respective SHPO/THPO, Indian Tribes and Native Hawaiian organizations or others in the Native Hawaiian Community or Alaska Natives may also offer comments on park suspension.

—Design Guidelines: This clause allows for the development of various types of design guidelines. It also explains that if design guidelines are being developed for a specific park, comments from the respective SHPO must be reasonably incorporated.

Finally, ACHP staff provided a final review and NPS duly addressed its requests for minor edits and clarifications. ACHP staff concluded that the PC request met the requirements in 36 CFR 800.14(e)(1) and the changes made in the document reasonably addressed the comments and concerns offered during consultation, the ACHP's Regulations and Governance Committee meeting, and ACHP's staff review.

V. Text of the Program Comment

The full text of the issued program comment, with various typographical errors corrected, is reproduced below. Please note that the text of the issued program comment includes hyperlinks. The footnotes below show the web addresses that were hyperlinked:

Program Comment on Stewardship and Management of National Park Service Mission 66-Era Facilities (1945-1972) for Compliance With Section 106 of the National Historic Preservation Act

This Program Comment (Program Comment) provides the U.S. Department of Interior, National Park Service (NPS) with an alternative way to comply with their responsibilities under Section 106 of the National Historic Preservation Act (54 U.S.C. 306108, and 36 CFR part 800 (Section 106)) regarding certain stewardship and management undertakings at NPS facilities built between 1945 and 1972 (Mission 66-era). This document was developed in consultation by the NPS, as part of a larger agency request, and submitted for consideration by the Advisory Council on Historic Preservation (ACHP) pursuant to 36 CFR 800.14(e) in August 2024. It was consulted upon by the ACHP between August and October 2024, and edits were duly incorporated.

Table of Contents

I. Introduction

A. Background

B. Significance

C. Current Compliance Efforts

D. Goals

II. Scope

A. Mission 66-Era Historic Properties

B. Overall Effect

C. Effect on Other Applicable Laws or Existing Agreements

D. Effect on Tribal Lands

E. Category of Undertakings

F. Non-Qualifying Undertakings

G. Temporary Effects

H. Design Guidelines

III. Identification of Historic Properties

A. Reasonable and Good Faith Effort

B. Re-evaluation of Previously Evaluated Non-Mission 66-Era Historic Properties

C. Properties Built Between 1990 and the Present Day

D. Mission 66-Era Utilities

E. Identification Findings and Next Steps

F. Identification Findings for the Program Comment

IV. Review Process Overview and Assessing Effects

A. Two Review Processes

B. Special External Review Process for Certain Findings of No Historic Properties

C. Internal Review Process for Certain No Adverse Effects Findings

D. External Review Process for Certain No Adverse Effects Findings

E. External Review Process for Adverse Effects Findings

V. The External and Internal Review Processes

A. The External Review Process

B. The Internal Review Process

C. Implementation as Documented and Reporting

VI. ERP and IRP Package Contents

A. ERP Package Contents

B. IRP Package Contents

VII. The Consultation Record

VIII. Mitigation

A. Collective Mitigation

B. Changes to Mitigation Measures

IX. Park Suspension

A. Park Suspension Process

B. Notification of Park Suspension

X. Reporting and Meetings

A. Park Annual Report and Annual Meeting

B. Regional, Agency, and Wrap-Up Reports

XI. Administrative Clauses and Discoveries

A. Duration and Amendment

B. Discoveries

C. Emergencies

D. Section 106 Review for a Single Undertaking

E. Document Website

For purposes of this Program Comment, definitions listed in 54 U.S.C. 300309 (i.e., Tribe, Tribal lands), 54 U.S.C. 300214 (i.e., Native Hawaiian organization), and in the regulations at 36 CFR part 800 broadly and in 36 CFR 800.16 are incorporated by reference. Other definitions appear within the document in parenthesis (e.g., ERP, IRP, 2008 PA, Qualifying Undertaking, etc.). Native Hawaiian Community is defined in 43 CFR part 50.4. The NPS has requested that Native Hawaiian Communities and Alaska Natives be specifically included in the scope, consultation, and other review points in the Program Comment. The NPS consults with the Native Hawaiian Community and Alaska Natives in accordance with U.S. Department of Interior Departmental Manual 512 (2022) Chapters 4-7 and Departmental Manual 513 Chapters 1-2. More information about the Program Comment can be found on the NPS Section 106 Compliance web page (ParkPlanning—Mission 66 Program Comment (nps.gov) ¹).

¹ https://parkplanning.nps.gov/projectHome.cfm?projectID=116344.

I. Introduction

A. Background. In 2020, the U.S. Congress provided NPS with $1.5 billion in funding via the Great American Outdoors Act (Pub. L. 116-152), and other legislation and funding followed. Funds from these laws must be obligated by NPS within the next few years or they will no longer be available for NPS use. The laws called out the agency's deferred maintenance backlog generally, but also the need for the agency to ensure people with disabilities have equal opportunity to benefit from park facilities, programs, services, and activities.

There are approximately 20,000 Mission 66-era facilities in NPS parks, many of them serving visitors and staff, located across the country and concentrated in the Pacific West and Intermountain Regions. According to NPS data, while almost 50% of Mission 66-era facilities are in “good” or “fair” condition, 35% are in “poor” condition and 16% are in “serious” condition and contribute to the NPS deferred maintenance and repair backlog. This backlog totals $23.3 billion as of the end of fiscal year 2023.

Many NPS visitor centers still lack accessible restrooms, water fountains, and entrances. Also, paths between parking lots, sidewalks, buildings, and interpretive programs are often not accessible. Many facilities in staff areas (e.g., housing and maintenance facilities) are also in need of accessibility improvements, as detailed in NPS reports and testimony before the U.S. Congress (ALL IN! Accessibility in the National Park Service 2015-2020).

Further, the lack of suitable affordable NPS staff housing in parks has been identified by the current NPS director as a “critical issue,” and widely reported.

B. Significance. The massive NPS “Mission 66” building campaign that occurred between 1945 and 1972 improved, standardized, and democratized the public's national park experience with new facilities including comfort stations, picnic shelters, campgrounds, visitor centers, park staff housing, maintenance buildings, warehouses, roads, and other infrastructure. This period of feverish construction was called “Mission 66” because it was supposed to have been completed by 1966, in time for the fiftieth anniversary of the founding of the NPS.

Based on NPS nationwide data, the Intermountain Region and Pacific West have the greatest number of NPS Mission 66-era facilities, followed by the Southeast and Northeast, Midwest, National Capital, and the Alaska Regions. The states with 500 or more Mission 66-era facilities are: California (2,450), Wyoming (1,500), Washington (1,200), Virginia (1,150), North Carolina (900), Utah (900), Arizona (900), Colorado (800), Tennessee (700), New York (650), Montana (650), Mississippi (600), Maryland (500), and Texas (500), for a total of about 12,950 facilities (approximately). Other States have less than 500 each. (All figures are approximate and nationwide data has not been verified at the regional, State, or park levels.)

While some of the Mission 66-era facilities, especially visitor centers, were designed by renowned architects, many others were built using standard plans such as those developed for comfort stations, staff housing, administrative and maintenance/utility buildings, ranger kiosks, and similar. During the Mission 66-era, some adjustments were made to the standard plans to address changing park needs as well as both the suitability and availability of construction materials in different regions.

NPS staff typically utilizes the National Register of Historic Places Multiple Property Documentation Form (MPDF, NRIS #64501248, 2015, https://npgallery.nps.gov/AssetDetail/84789671-6031-4916-8bf1-18fbe8c80511/) to provide a framework for identification of Mission 66-era historic properties. The MPDF established the period of significance as 1945 to 1972. It mentions certain properties as early or exemplary embodiments of the period, lists the ninety-five (95) parks that were established as part of Mission 66, sets eligibility evaluation criteria for individual listings and park-wide districts, and focuses on consideration of small area use-specific districts.

A monograph on the subject, “Mission 66: Modernism and the National Park Dilemma” (Ethan Carr, LALH, 2007, Review of Mission 66: Modernism and the National Park Dilemma (nps.gov) ²), and an NPS-published book, “MISSION 66 VISITOR CENTERS: The History of a Building Type” (Sarah Allaback, Ph.D., NPS, 2000, National Park Service: Mission 66 Visitor Centers (nps.gov) ³), provide additional context. In 2022, NPS also published process guidelines for determinations of eligibility for Mission 66 Campgrounds (Mission 66 Campgrounds Determination of Eligibility Process Guidelines (npshistory.com) ⁴).

² Book review— https://www.nps.gov/crps/CRMJournal/Winter2010/reviewbook3.html.

³ https://www.nps.gov/parkhistory/online_books/allaback/index.htm.

⁴ https://www.npshistory.com/publications/mission66/campground-doe-process-guidelines-2022.pdf.

C. Current Compliance Efforts. The Programmatic Agreement among the National Park Service (U.S. Department of Interior), the Advisory Council on Historic Preservation, and the National Conference of State Historic Preservation Officers for Compliance with Section 106 of the National Historic Preservation Act (2008) (2008 PA, What We Do—Section 106 Compliance Program (U.S. National Park Service) (nps.gov) ⁵), governs implementation of regular management activities at the NPS. Such management activities may include work done on Mission 66-era facilities; however, as described below, the 2008 PA has limited applicability in regard to many undertakings on Mission 66-era facilities.

⁵ https://www.nps.gov/orgs/1966/whatwedo.htm.

The 2008 PA requires Park Superintendents to develop an inventory of historic properties, properties that are listed in or eligible for listing in the National Register. When an undertaking is proposed, the 2008 PA's streamlined process requires that “identification and evaluation of all types of historic properties within the project area of potential effects (APE) must have been previously undertaken, sufficient to assess effects on those resources” either via 36 CFR part 800 or section 110 (54 U.S.C. 306102) (The identification effort would have occurred sometime before the undertaking was planned.).

These processes can be time consuming and according to NPS nationwide data, approximately 75% of Mission 66 facilities have not been evaluated for listing in the National Register.

Furthermore, the 2008 PA focuses on regular management activities. As many Mission 66-era facilities are in poor or serious condition and hundreds are underutilized or unutilized (defined in the Federal Real Property Profile Data Dictionary, FRPC Guidance Library | GSA ⁶), scopes of work may address more than regular management. Also, the streamlined review process described in the 2008 PA can only be used by Park Superintendents when there is a determination of “no historic properties affected” or “no adverse effects” (36 CFR part 800). Some proposed scopes of work go beyond regular management and may pose adverse effects to Mission 66-era historic properties, rendering the 2008 PA inapplicable. Finally, the 2008 PA's streamlined review process cannot be used when there is a lease that includes a change of use or where projects cumulatively result in the complete rehabilitation of a historic property.

⁶ https://www.gsa.gov/policy-regulations/policy/real-property-policy-division-overview/asset-management/federal-real-property-council/frpc-guidance-library.

While it is standard for NPS to make reasonable efforts to avoid and minimize adverse effects (e.g., so activities are completed in accordance with various NPS Preservation Briefs Preservation Briefs—Technical Preservation Services (U.S. National Park Service) (nps.gov) ⁷), again, there may be cases in which projects cannot achieve mission goals while completely avoiding or minimizing adverse effects to Mission 66-era historic properties (e.g., such as making accessibility improvements to comfort stations by changing their layouts, upgrading staff housing kitchens and baths, applying certain preventive seal treatments to vehicular areas, switching out building yard plantings to address the changing climate, and improving utilities at campgrounds, etc.). There may also be temporary adverse effects to Mission 66-era historic properties and other historic properties during construction and reasonably associated with construction activities, that may not be entirely avoidable or minimizable, but will cease once construction is complete.

⁷ https://www.nps.gov/orgs/1739/preservation-briefs.htm.

In these cases, compliance for Mission 66-era facilities has often occurred in conjunction with other larger park initiatives, for which a memorandum of agreement or a programmatic agreement has been executed, or when a park-wide programmatic agreement is already in place.

D. Goals. The Program Comment will support specific NPS efforts to use Mission 66-era historic properties to meet mission needs, by expediting Section 106 reviews. It will help NPS fulfill legislated mandates to improve the visitor experience and accessibility, enhance conditions for staff, address longstanding deferred maintenance, and advance ongoing stewardship efforts. NPS plans to accomplish the following with the Program Comment:

1. implement the MPDF on a national level, to address the NPS identification backlog and alleviate workloads;

2. utilize the existing NPS compliance staffing and teams with Qualified Personnel and/or Cultural Resource Management (CRM) Team engagement;

3. encourage preservation and predictability in project planning by requiring internal reviews by Qualified Personnel and/or a CRM Team for certain undertakings that either pose no adverse effects to historic properties or when the only condition for such a finding, by a Park Superintendent, is that the undertaking will follow the Secretary of the Interior's Standards for the Treatment of Historic Properties, (Secretary's Standards, The Secretary of the Interior's Standards for the Treatment of Historic Properties—Technical Preservation Services (U.S. National Park Service) (nps.gov) ⁸) and applicable guidelines;

⁸ https://www.nps.gov/orgs/1739/secretary-standards-treatment-historic-properties.htm.

4. provide for accountability by listing requirements for the Consultation Record and ensuring the NPS Federal Preservation Officer (FPO) and deputies have access to it for oversight and regular reporting, and may reference it as needed;

5. complete mitigation for adverse effects associated with undertakings subject to the Program Comment with measures including development of additional National Register documentation of Mission 66-era historic properties, development and publication of an Administrative History of NPS Housing available by spring 2027, and either advancing conservation of Mission 66-era materials via materials research and analysis or developing a nationwide interpretive plan, as funds allow; and

6. facilitate a smooth transition to consistent use of the 2008 PA, for regular routine management activities, at the end of the Program Comment's ten-year duration.

E. Existing Compliance Structure. NPS will utilize the existing NPS compliance staffing and teams (described in the 2008 PA and this Program Comment) at the national, regional, and park levels, with Qualified Personnel and/or Cultural Resource Management Team engagement, to implement this Program Comment as described below.

1. In the entire Federal Government, NPS has one of the largest concentrations of qualified cultural resource personnel. In this Program Comment, the term Qualified Personnel (Qualified Personnel) refers to those in NPS employ that meet the Secretary of the Interior's Professional Qualification Standards or the OPM Personnel Qualification Standards, which codify the minimum requirements that must be met for professional work concerning historic properties.

2. The term Cultural Resources Management Team or CRM Team is explained in the 2008 PA and in NPS's PA Guidance as follows: A team of subject matter experts appropriate to the resource types found in the park. The number of individuals on the CRM Team may vary from park to park as needed to represent all disciplines appropriate to the park's resources. For example, an undertaking being planned that involves a historic building must have a historical architect on the CRM Team. Typical CRM Teams often include a historical architect, a historical landscape architect, an archeologist, a cultural anthropologist, a historian, and a museum curator. Members may include park staff or staff of other parks, NPS Regional Offices, NPS Centers, federally recognized Indian Tribes or Native Hawaiian organizations, or others from the public or private sector. Agency personnel or contractors who participate on the Park's CRM Team must meet either the qualification standards established in Appendix E to NPS-28, which references the Office of Personnel Management (OPM) Personnel Qualifications Standards, or the Professional Qualification Standards in the Secretary of the Interior's Standards and Guidelines for Archeology and Historic Preservation. These qualification standards define minimum education and experience required to perform identification, evaluation, registration, and treatment activities. In some cases, additional areas or levels of expertise may be needed, depending on the complexity of the task and the nature of the historic properties involved (NPS Nationwide Programmatic Agreement National Guidance Document, 2022, NPS Nationwide Programmatic Agreement National Guidance Document ⁹). A CRM Team may be brought in by a Park Superintendent to support the review process set forth in the Program Comment as needed.

⁹ https://www.nps.gov/orgs/1966/upload/2022-06-06-PA_Guidance_508_2022-0606-3.pdf.

II. Scope

A. Mission 66-Era Historic Properties. Within this Program Comment, the term Mission 66-era Historic Property refers to a type of historic property (see 36 CFR 800.16(l)) that was built between 1945-1972, during a massive NPS “Mission 66” building campaign that was called “Mission 66” because it was supposed to have been completed by 1966, in time for the fiftieth anniversary of the founding of the NPS. This term includes Operations Outdoors historic properties that were built for the U.S. Forest Service, or any other historic properties from the Mission 66-era that are now in the custody and control of the NPS as described in the relevant section in this document. Any facility built between 1945-1972 may be covered by this Program Comment; the facility does not need to have been built as part of the Mission 66 program. (May be referred to in singular as a Mission 66-era Historic Property, and both historic and non-historic Mission 66-era properties are referred to as Mission 66-era facilities.)

B. Overall Effect. This Program Comment will provide an alternative way for NPS to fulfill their Section 106 responsibilities to take into account the effects on historic properties of their covered undertakings at Mission 66-era facilities. The Program Comment also provides the ACHP a reasonable opportunity to comment regarding covered undertakings at Mission 66-era facilities.

C. Effect on Other Applicable Laws or Existing Agreements. The Program Comment is an optional tool, and will not replace, amend, or otherwise change the 2008 PA, nor any other park- or project-specific Section 106 agreements.

Under NPS policy, each Park Superintendent serves as the responsible agency official for the purposes of Section 106 compliance for their park and makes all findings and determinations in the Section 106 process.

If standard Section 106 review, the 2008 PA, a park- or project-specific agreement, or some other applicable program alternative is better suited for NPS to fulfill their Section 106 responsibilities for a given undertaking, there is no requirement for this Program Comment to be used by the Park Superintendent. Again, use of this Program Comment is optional.

D. Effect on Tribal Lands. This Program Comment cannot be used on Tribal lands (as defined in the NHPA). In addition, this Program Comment cannot be used when any portion of an undertaking is proposed to occur on or affect historic properties located on Tribal lands or when the undertaking includes activities that may affect historic properties located on Tribal lands (section II.F.2.).

E. Category of Undertakings. A Park Superintendent will determine whether it is appropriate to use this Program Comment for a given undertaking as described immediately below and referencing both the park inventory of historic properties described in I.C, above and the park's most recent annual report, such as a report associated with the 2008 PA or some other park-wide agreement, and going forward as described in section X.

This Program Comment may be selected by a Park Superintendent as the appropriate Section 106 compliance method when one of the following management undertakings is planned to take place: (a) at a single Mission 66-era facility or (b) at one or more NPS facilities where the majority of facilities (or resources) within the APE are from the Mission 66-era (1945 to 1972), as determined by the Park Superintendent (in consultation with Qualified Personnel and/or the CRM Team with such consultation documented in the Consultation Record).

The following lists the qualified undertakings (Qualified Undertaking(s) or Qualifying Undertaking(s)) covered by this Program Comment:

1. Regular repetitive management activities (as listed in the 2008 PA Stipulation III.C, and referred to in this Program Comment as Regular Management Activities.) and associated work (e.g., site, site signage, and utilities) and

2. Other management activities (Other Management Activities) and associated work (e.g., site, site signage, and utilities) listed below:

i. Complete rehabilitation in accordance with the Secretary's Standards, specifically the Secretary's Standards for Rehabilitation, and applicable guidelines; and/or

ii. section II.E.2.i. when associated with leasing; and/or

iii. Alteration, accessibility improvements, HazMat abatement, stabilization and mothballing, demolition of non-historic properties, new construction in accordance with the Secretary's Standards and applicable guidelines or with Design Guidelines (section II.H.), and construction of additions.

F. Non-Qualifying Undertakings. However, an otherwise Qualifying Undertaking may not utilize the Program Comment when the Park Superintendent (in consultation with Qualified Personnel and/or the CRM Team and documented in the Consultation Record), determines that any of the conditions below (also referred to as Kick-Outs) are present, as it would then be considered non-qualified or non-qualifying (Non-Qualified Undertaking(s) or Non-Qualifying Undertaking(s)):

1. potential to affect National Historic Landmarks (NHLs) (including those from the Mission 66-era), historic battlefields, burial sites, human remains, and/or funerary objects;

2. any portion is proposed to occur on or affect historic properties located on Tribal lands, or there is the potential to affect properties of religious and cultural significance to an Indian Tribe or to Native Hawaiian organizations or others in the Native Hawaiian Community, or to Alaska Natives;

3. potential to affect a historic property that is significant for reasons other than Mission 66 (e.g., National Register-eligible or -listed historic properties that are not primarily-eligible or -listed due to any association with the Mission 66-era as it is described in the MPDF, such as a Colonial-period archaeological site, a Queen Anne Style farmhouse complex district, a CCC-era structure or linear district, a historic landscape site or district, etc.); and/or

4. potential to affect a Mission 66-era historic property or properties such that it/they would be ineligible for National Register listing or a candidate(s) for de-listing.

To clarify, the majority of facilities (or resources) within the APE must have been built within the Mission 66-era (1945 to 1972), as determined by the Park Superintendent (in consultation with Qualified Personnel and/or the CRM Team with such consultation documented in the Consultation Record), section II.E., or the undertaking is Non-Qualifying.

G. Temporary Effects. Use of this Program Comment may still occur if there may be potential temporary adverse effects to a historic property or properties during construction which may be reasonably associated with construction activities for the Qualifying Undertaking. Such temporary adverse effects are the type that will cease once construction is complete (Temporary Effects) (e.g., temporary effects associated with safety signage or apparatus, construction lay-down or staging areas, or for temporary provision or cessation of utilities or channeled drainage). These effects must be minimized with assistance from Qualified Personnel and/or the CRM Team, as documented in the Qualifying Undertaking's Consultation Record.

If a Qualified Undertaking would not otherwise trigger an External Review Process (defined below), but may cause Temporary Effects, the External Review Process will not be triggered due to the Temporary Effects.

H. Design Guidelines. Guidelines for new construction, construction of additions, or other actions (II.E.2.) at Mission 66-era facilities that may be developed on a park-by-park basis or on a facility type basis (e.g., Design and Maintenance Guidelines: Mission 66 Comfort Stations, National Capital Region, Washington, DC) and utilized in conjunction with this Program Comment to avoid and minimize adverse effects when comments by ACHP, the National Conference of State Historic Preservation Officers (NCSHPO), and the respective state State Historic Preservation Officers (SHPOs) for park-by-park guidelines have been reasonably incorporated and the final document is promulgated by the Federal Preservation Officer (FPO) to ACHP, NCSHPO, and the respective state SHPO(s) online, and in regular reporting (Design Guidelines).

III. Identification of Historic Properties

A. Reasonable and Good Faith Effort. After determining that it is appropriate to use the Program Comment for the proposed Qualifying Undertaking as described above, the Park Superintendent will identify historic properties within its APE. Qualified Personnel and/or a CRM Team will support Park Superintendents to help them make informed determinations. The Park Superintendent will make a reasonable and good-faith effort to identify historic properties through one of the options described below, or a combination thereof, and must also reference their park's most recent annual report, such as a report associated with the 2008 PA or some other parkwide agreement and going forward as described in section X.

1. Rely on the records from previous identification efforts including but not limited to those completed pursuant to 36 CFR 800.4(c) for another undertaking within the APE, or identification efforts done in implementation of the agency's responsibilities under section 110 of the NHPA (54 U.S.C. 306102). In consultation with the Qualified Personnel and/or CRM Team, the Park Superintendent would determine if those previous efforts are sufficient to identify historic properties within the APE for the proposed undertaking.

2. Alternatively and in lieu of conducting individual determinations of eligibility in accordance with 36 CFR 800.4, the Park Superintendent may consider unevaluated Mission 66-era facilities (or those for which evaluations were incomplete or insufficient) as eligible for the National Register for the purposes of compliance with Section 106 via the Program Comment, with assistance from Qualified Personnel and/or a CRM Team primarily by applying the criteria set forth in the MPDF, and the National Register criteria, and any associated guidance so that the historic property's character-defining features are identified and documented as described immediately below.

Identification efforts and consultation (e.g., among the Park Superintendent, Qualified Personnel and/or a CRM Team), including any disagreements and their resolution, must be documented in the Qualifying Undertaking's Consultation Record. The Consultation Record must also summarize the applicability of the MPDF and the National Register criteria, and any associated guidance, the summary being prepared by Qualified Personnel and/or the CRM Team, so that the historic property's character-defining features are identified. The following resources, “Mission 66: Modernism and the National Park Dilemma” (Ethan Carr, LALH, 2007) and “MISSION 66 VISITOR CENTERS: The History of a Building Type” (Sarah Allaback, Ph.D., NPS, 2000), and other NPS publications may provide additional context, if necessary.

B. Re-evaluation of Previously Evaluated Non-Mission 66-Era Historic Properties. Analysis and formal correspondence may be necessary to determine whether properties that are not from the Mission 66-era are historic. This may require re-evaluation of previously evaluated properties (e.g., in accordance with 36 CFR 800.4), and would preclude use of the Program Comment until such evaluation is complete.

C. Properties Built Between 1990 and the Present Day. The Park Superintendent would not carry out any identification or evaluation efforts on properties within the APE that were built between 1990 and the present day unless previous review or consultation identified that property as National Register-eligible under Criteria Consideration G. Excepting previously determined eligible properties, the Park Superintendent would have no further review responsibility to consider effects for Qualifying Undertakings on post-1990 properties under the Program Comment.

D. Mission 66-Era Utilities. The Mission 66 program provided funds to introduce potable water, sewer systems, and electricity to new comfort stations and other buildings and structures within a park, as well as certain roads or trails. While construction of this infrastructure addressed Mission 66 goals to modernize parks and visitor services, utility infrastructure, such as water, sewer, telephone (communication), and electric lines (above and below ground), the utilities seldom in and of themselves have architectural or historical significance. Utility resources that are buried, either wholly or in part, should be described as a part of the overall setting, but need not be further evaluated or assessed to consider potential effects to them. They should be considered and described within the context of a related historic district, as applicable. As such, there are two (2) types of Mission 66-era facilities for which no further review is required under the Program Comment:

i. Effects to those Mission 66-era facilities already formally determined as ineligible, when those determinations indicated that the MPDF was taken into consideration and did not call for further evaluation of the subject facilities; and

ii. Effects to below-grade utilities and above or below-grade utility covers, lines, poles, and pipes (e.g., water, sewer, telephone and communication, and electric) unless it is/they are an example of distinctive design or engineering.

However, there may be components of Mission 66-era utility systems that are visible and if, based on a determination of the Park Superintendent with input from Qualified Personnel and/or the CRM Team, they constitute examples of distinctive design or engineering compatible with other Mission 66 facilities and retain integrity, they should be evaluated for eligibility and included with the Park Superintendent's assessment of effects under the Program Comment (sections IV. and V.).

E. Identification Findings and Next Steps. After completing the effort described above, the Park Superintendent will make one of the following determinations (with input from Qualified Personnel and/or the CRM Team and made part of the Consultation Record):

1. A finding of no historic properties within the APE including no Mission 66-era historic properties, or

2. A finding that properties identified within the APE consist of:

i. only Mission 66-era historic properties, or

ii. Mission 66-era facilities (a combination of Mission 66-era historic properties and Mission 66-era facilities that are not historic), or

iii. a combination of Mission 66-era historic properties and other non-historic facilities (or resources) from outside of the Mission 66-era (but with the latter not representing a majority of the properties, per the Kick-Outs); or

iv. Mission 66-era facilities that are not historic and other facilities (or resources) from outside of the Mission 66-era that are historic (section II.E.).

Once one of these determinations has been made by the Park Superintendent, they will proceed to the next steps in the process, sections IV. and V., below.

The Park Superintendent must also record the identification finding(s), for the purposes of the annual report (section X.).

F. Identification Findings for the Program Comment. The Park Superintendent would only make National Register determinations of eligibility as described above for Mission 66-era facilities when considering a Qualified Undertaking(s) under the Program Comment. If for any reason Section 106 compliance must be accomplished via another means (e.g., standard Section 106 review, a park-specific programmatic agreement, or an undertaking-specific memorandum of agreement is needed because an undertaking is no longer a Qualified Undertaking), additional analysis and reviews may be necessary.

IV. Review Process Overview and Assessing Effects

A. Two Review Processes. Under this Program Comment, there are two review processes. Some Qualifying Undertakings may require an External Review Process (ERP) and others may require only an Internal Review Process (IRP). The ERP package and IRP package will include relevant documentation so as to meet the requirements set forth in 36 CFR 800.11, as described below, and will be part of the Consultation Record.

Qualified Personnel and/or a CRM Team will support Park Superintendents to help them make informed determinations, to avoid or minimize adverse effects, and to take cumulative effects into consideration. It is standard for Park Superintendents to make reasonable efforts to avoid and minimize adverse effects to historic properties. The Consultation Record must indicate that such consideration occurred and support the Park Superintendent's findings. Any disagreements about the ERP or IRP between Park Superintendents, Qualified Personnel, and/or a CRM Team, and their resolution, must also be part of the Consultation Record.

B. Special External Review Process for Certain Findings of No Historic Properties. When no historic properties are identified within the APE, including findings that there are no Mission 66-era historic properties (section III.E.1.) or some Mission 66-era facilities that are not historic because they lack integrity (section III.E.2.ii. and iv.), a special ERP is required. This review is independent of the ERP but follows the same process (section V.A.) and has the same ERP Package Content requirements (section IV.A.). It requires a special review with Indian Tribes or Native Hawaiian organizations or others in the Native Hawaiian Community or Alaska Natives and the main purpose is to confirm that there are no properties of religious and cultural significance to an Indian Tribe or to Native Hawaiian organizations or others in the Native Hawaiian Community or to Alaska Natives in the APE.

If an ERP is occurring, the Special ERP may be accomplished in conjunction with the ERP. If an ERP is not occurring, the Special ERP must be completed separately.

C. Internal Review Process for Certain No Adverse Effects Findings. For all findings in section III.E.2., when there is a determination that there are no adverse effects to historic properties in the APE because the Secretary's Standards and applicable guidelines will be applied (confirmed with input from Qualified Personnel and/or the CRM Team and as shown in in the Consultation Record), and there are no other conditions (Conditions such as but not limited to archaeological monitoring, movement monitoring, and similar, but not those for Temporary Effects), the Park Superintendent is required to do an IRP.

D. External Review Process for Certain No Adverse Effects Findings. For all findings in section III.E.2., when there is also a determination that there are no adverse effects to historic properties in the APE because the Secretary's Standards and applicable guidelines will be applied, and other conditions will also be applied (aside from those for Temporary Effects), the Park Superintendent is required to do an ERP. (Conditions such as but not limited to archaeological monitoring, movement monitoring, and similar.)

E. External Review Process for Adverse Effects Findings. For findings in section III.E.2.i-iii., if there is a determination that there may be adverse effects to Mission 66-era historic properties, the Park Superintendent is required to do an ERP.

(For findings in section III.E.2.iv., if there is a determination that there may be adverse effects to non-Mission 66 era historic properties (i.e., II.F.3.), excepting Temporary Effects, the Park Superintendent must follow the standard Section 106 review process or another applicable program alternative, because such adverse effects would render the undertaking Non-Qualifying.)

V. The External and Internal Review Processes

A. The External Review Process. The ERP will occur in the situations described above, sections IV. B. and D-E. The Park Superintendent will develop the ERP package as set forth in section VI. and post it on a public-facing PEPC (or other publicly accessible) website for Notified Parties (hereinafter defined) and consulting parties.

The Park Superintendent will notify the relevant SHPO and/or Tribal Historic Preservation Officer (THPO) and potentially interested Indian Tribes, or Native Hawaiian organizations or others in the Native Hawaiian Community or Alaska Natives (Notified Parties) (i.e., via email, hard-copy letter via mail or mail service, or an alternative method arranged in advance in writing) that the ERP package has been posted.

Upon the Notified Parties' receipt of the notification, a fifteen (15) business day review period commences. The public-facing PEPC (or other publicly accessible) website and the first page of the ERP will clearly indicate the last day of the review period.

Consulting parties and the Notified Parties may provide any comments in writing via the public-facing PEPC (or other publicly accessible) website or email to the Park Superintendent within the review period, and the Park Superintendent will take them into account.

If no written objection or no response from the Notified Parties is received by the Park Superintendent within the review period, the Section 106 review as documented in the ERP is complete and no further review or consultation on the Qualifying Undertaking is required.

A Notified Party may object to the ERP package by providing a written notice to the Park Superintendent within the review period with a substantive, fact-based, and project-specific objection, and including a reasonable level of detail. Upon receipt, the Park Superintendent will either follow the standard Section 106 review process in 36 CFR part 800 or another applicable program alternative, or attempt to resolve the objection with the objecting Notified Party.

If the Park Superintendent attempts to resolve the objection, they may reach out to the objecting Notified Party and/or other Notified Parties to consult. If additional materials are necessary, they must be posted on the public-facing PEPC (or other publicly accessible) website for an additional five (5) business day review and consultation period. The Notified Parties will be notified of the availability of the additional information in the same way they received the initial ERP notification, and the first page of the public-facing PEPC (or other publicly accessible) website and the first page of the additional ERP information will clearly indicate the last day of the additional review and consultation period.

If the Park Superintendent is able to resolve the objection by the end of the additional review and consultation period, a summary of the resolution will be posted on the public-facing PEPC (or other publicly accessible) website promptly, and the Notified Parties will be notified of the resolution in the same way they received the initial ERP notification.

If the Park Superintendent is unable to resolve the Notified Party's objection by the end of the additional review and consultation period, the Program Comment cannot be used for the proposed undertaking and the Park Superintendent will follow the standard Section 106 review process in 36 CFR part 800 or another applicable program alternative.

All ERP package materials, comments, and objections will become part of the Consultation Record.

B. The Internal Review Process. The IRP will occur in the situations described in section IV.C. Park Superintendents, Qualified Personnel, and/or a CRM Team will develop the IRP package in accordance with the requirements in section VI., reasonable time periods will be provided for internal review and discussion, and the Consultation Record must reflect all findings and determinations. Any disagreements between Park Superintendents, Qualified Personnel, and/or a CRM Team, and their resolution must also be documented in the Consultation Record.

C. Implementation as Documented and Reporting. Implementation of a Qualifying Undertaking in accordance with the finding(s) as documented in the ERP or IRP, including with any documented resolution summary described in section V.A., fulfills the agency's responsibilities under Section 106 for the Qualifying Undertaking.

The status of any ERP or IRP will be included in annual reporting, described in section X. If the Qualified Undertaking is not being reasonably executed as documented in the ERP or IRP package (e.g., due to substantive differences between the preliminary design documents from the ERP or IRP package and later final design or construction documents that introduce Kick-Outs or new adverse effects, intensification of adverse effects, etc., or for another reason), then NPS will consult with Qualified Personnel and/or the CRM Team to determine whether the matter can be resolved, the initial effect findings maintained, and documented appropriately (i.e., in the Consultation Record). If it cannot, Section 106 compliance must be reopened and accomplished via the Program Comment (i.e., a new or updated IRP or a new ERP) or another means (i.e., standard Section 106 review, a park-specific programmatic agreement, or an undertaking-specific memorandum of agreement). If this occurs, additional analysis and reviews may be necessary.

VI. ERP and IRP Package Contents

A. ERP Package Contents. The ERP package for the proposed Qualifying Undertaking must include:

1. a description of the Qualifying Undertaking;

2. analysis confirming no Kick-Outs are present;

3. a relevant excerpt of current preliminary design documents that clearly depict and delineate the Qualifying Undertaking (i.e., plans, elevations, and specifications);

4. a description and map of the APE;

5. ground-disturbance information and surveys as appropriate and consistent with confidentiality provisions in 36 CFR 800.11(c);

6. a finding by the Park Superintendent as noted in section III.E.;

7. a finding by the Park Superintendent as noted in section IV. B., D. (e.g., conditions), or E.;

8. the Park Superintendent's name and the name(s) of Qualified Personnel and/or the CRM Team; and,

9. the Park Superintendent's signature on the ERP package to confirm: the proposed project is a Qualifying Undertaking; that reasonable efforts were made to avoid and minimize adverse effects; the finding and determinations; that the park will execute the Qualifying Undertaking as documented; and,

10. the following statement, to account for various situations such as where there may be substantive differences between the preliminary design documents from the ERP package and later final design or construction documents that introduce Kick-Outs or new adverse effects, or intensify adverse effects, “If the Qualifying Undertaking is not substantively executed as documented in the ERP, including any resolution summary if applicable, NPS will consult with Qualified Personnel and/or the CRM Team to determine whether the matter can be resolved and documented appropriately (i.e., in the Consultation Record). If the matter cannot be resolved, and the initial effect findings would change, the Park Superintendent will reopen Section 106 and accomplish compliance for the proposed project via the Program Comment (i.e., a new or updated ERP or IRP) or another means (i.e., standard Section 106 review, a park-specific programmatic agreement, or an undertaking-specific memorandum of agreement).”

With regard to section VI.A.7., when adverse effects to Mission 66-era historic properties may result from the proposed undertaking, the Park Superintendent will reference the commensurate and relevant Mitigation Menu measure in section VIII., which will not be subject to further consultation, nor available for objection in the ERP.

The status of the ERP for the Qualifying Undertaking will be posted on a public-facing PEPC (or other publicly accessible) website for the duration of construction.

B. IRP Package Contents. The IRP package for the proposed Qualifying Undertaking must include the same elements listed for the ERP package to the extent applicable to the proposed undertaking, but will be posted on an internal-facing PEPC site, and all references to ERP above will be substituted with the term IRP.

VII. The Consultation Record

A. A complete Consultation Record that follows the documentation standards in 36 CFR 800.11, will be available and accessible to NPS staff at the park-, regional-, and national-levels for NPS reporting purposes, and includes:

—a summary of the Qualifying Undertaking;

—the APE;

—information on Kick-Outs, and their applicability;

—a summary of the applicability of the MPDF and National Register criteria and any associated guidance;

—a summary of any Temporary Effects and how they were minimized;

—the ERP package or IRP package including the finding of effects, comments and objections, and resolution summaries, as applicable;

—any other relevant internal or external comments or objections and their resolution or next steps planned or taken.

—in cases when the undertaking is not substantively executed as documented in the ERP or the IRP, and consultation must occur with Qualified Personnel and/or the CRM Team to determine whether the matter can be resolved and documented in the Consultation Record, such documentation or information on how the matter was addressed;

—the date the PEPC file was closed.

VIII. Mitigation

A. Collective Mitigation. NPS will provide mitigation for collective adverse effects to Mission 66-era historic properties at the national level, rather than park-/undertaking-specific approaches. The list below is a Mitigation Menu which consists of measures which may be employed alone or combined, and may be accomplished at the park-, regional-, or national- level(s), or some combination thereof. The Park Superintendent will identify the selected measure to resolve adverse effects to Mission 66-era historic properties that may occur when Qualified Undertakings are completed in accordance with the Program Comment:

—resource stewardship training;

—national-level inventory management;

—national-, park-, district-, and individual property-level National Register documentation;

—development and publication of an Administrative History of NPS Housing which will be completed as part of a partnership with the NPS History Program and a public university, and which will be publicly available by the spring of 2027;

—publication of an MPDF reference guide for internal and external partners, to facilitate standardized use of the MPDF, within six months of publication of the Program Comment in the Federal Register, and

—formal study of materials analysis and/or materials conservation or development of a national-level Mission 66-focused interpretive plan (as funds allow).

(The above list will be referred to as the Mitigation Menu and the individual measures will be referred to as Mitigation Measure(s).)

In addition, utilizing materials generated from regular reporting and Mitigation Measures, NPS national-level staff may endeavor to conduct data (statistics) collection and perform associated analysis, which may be described in the agency annual report (defined below).

For Qualifying Undertakings that pose adverse effects to historic properties, the associated ERP package will reference associated Mitigation Measure(s). The Park Superintendent will specify whether the Mitigation Measure will be completed at the park-, regional-, or national-level and who will be responsible for reporting on its status.

Mitigation Measures will be tracked by the FPO and deputy associate directors at the national level. National-, regional- and park-level progress must be detailed in the annual meeting and report, the regional annual report, and the agency annual report and meeting (defined below), segments of which must be posted on a public-facing PEPC (or other publicly accessible) website as described in the section X.

Within one (1) year of publication of the Program Comment in the Federal Register, NPS will also develop a brief web-based on-demand training for use by internal and external partners.

B. Changes to Mitigation Measures. Any change or modification to the mitigation menu would require an amendment to this Program Comment.

IX. Park Suspension

A. Park Suspension Process. Park suspension from use of the Program Comment, for a reasonable period of time, may occur if there are repeated or egregious instances where the Qualified Undertaking was not reasonably executed as documented in the IRP package or ERP package, or for similar concerns as may be raised by Notified Parties, the ACHP, NCSHPO, individual SHPOs, or Tribes or Native Hawaiian organizations or others in the Native Hawaiian Community or Alaska Natives, as noted below and as determined by the FPO in consultation with regional leadership, and with input from the respective Park Superintendent and the Qualified Personnel and/or the CRM Team(s). It may also occur if a park has a pattern of not complying with the terms of the Program Comment when it was the selected Section 106 compliance method, with such pattern documented in the Consultation Records or annual reporting, also as determined by the FPO as described in this section.

The respective SHPO/THPO, Indian Tribes and Native Hawaiian organizations or others in the Native Hawaiian Community or Alaska Natives may also offer comments in this regard to the Park Superintendent and/or FPO at any time in writing.

B. Notification of Park Suspension. The ACHP, NCSHPO, and the respective SHPO/THPO, Indian Tribes and Native Hawaiian organizations or others in the Native Hawaiian Community or Alaska Natives, will be promptly notified, in writing, if a park has been suspended from using the Program Comment and informed of the terms of such suspension. Those parks suspended from use of the Program Comment will be listed in the annual meeting and report (e.g., to close out the year for that park), the regional annual report, and the agency annual report and meeting. (Segments of certain reports must be posted on a public-facing PEPC or other publicly accessible website, as described in the next section.)

X. Reporting and Meetings

A. Park Annual Report and Annual Meeting. For parks using or planning to use the Program Comment, the Park Superintendent will develop a park annual report and hold an annual meeting with consulting parties each year, initially occurring at least within eight (8) months of the issuance of the Program Comment or in conjunction with biannual meetings already occurring to meet requirements of other program alternatives (e.g., the 2008 PA), whichever is earlier, either virtually, in-person, or via telephone.

Primary invitees include the SHPO, THPO, Indian Tribes and Native Hawaiian organizations or others in the Native Hawaiian Community or Alaska Natives, and a reasonable effort will be made, by the Park Superintendent, to accommodate their schedules. Other invitees may include other consulting parties, lessees, historic societies, gateway communities, Qualified Personnel and/or CRM Teams. Other stakeholders may also be invited.

The Park Superintendent will provide the park annual report to invitees concurrently with the annual meeting invitation via email, hard-copy letter through mail or other shipping service, or an alternative method arranged in advance and agreed to in writing by the sending and receiving parties. The annual reports will include:

—updates to inventories of Mission 66-era historic properties and non-historic properties, including new determinations of National Register eligibility;

—a summary of undertakings that were completed which utilized the Program Comment (if applicable);

—information about undertakings that are ongoing or are planned and the status of any relevant objections on an ERP package;

—park-level mitigation status;

—problems with implementation of the Program Comment;

—training administered;

—relevant NPS contact information; and

—any park suspension status.

The park will hold the annual meeting no less than thirty (30) days after the park has transmitted the invitation and park annual report.

Meeting minutes will be distributed by the park to all attendees, the Regional Director and Regional Section 106 Coordinator, and the Park 106 Coordinator, within thirty (30) days after the meeting. The park will also provide a summary on public-facing PEPC (or other publicly-accessible website) including meeting highlights, within that same period.

If a THPO, Indian Tribe and/or Native Hawaiian organizations or others in the Native Hawaiian Community or Alaska Natives has informed a Park Superintendent of an area of interest or concern due to the location of a property of religious and cultural significance to them, and a Mission 66-era facility has any geographic overlap with that area of interest or concern, the Park Superintendent will individually write to the respective THPO, Indian Tribe and/or Native Hawaiian organizations or others in the Native Hawaiian Community or Alaska Natives, (i.e., via email, hard-copy letter through mail or other shipping service, or an alternative method arranged in advance and agreed to in writing by the sending and receiving parties) in parallel with the park annual reporting, to inform them of the inventory and any updates. Park Superintendents will comply with all confidentiality requirements as applicable.

B. Regional, Agency, and Wrap-Up Reports. For regions that include parks using or planning to use the Program Comment, a regional annual report must be provided to the FPO within one (1) month before the end of the fiscal year and include a summary and compilation of:

—PEPC data;

—inventories of Mission 66-era historic properties and non-historic properties including new determinations of National Register eligibility;

—a summary of undertakings that were completed which utilized the Program Comment (if applicable);

—undertakings that are ongoing or are planned;

—park- and regional-level mitigation status;

—problems with implementation of the Program Comment including any park suspension(s) or overarching objections to multiple ERP packages;

—training administered; and

—NPS contact information.

Any disagreements between Park Superintendents, Qualified Personnel, and/or a CRM Team, and their resolution, must also be listed in summary fashion.

The FPO's summary and compilation of all the regional annual reports, as well as a summary of national-level mitigation status will comprise the agency annual report. It will include an executive summary that will be posted by the FPO on a public-facing PEPC (or other publicly accessible) website by the end of the fiscal year. The ACHP and NCSHPO will be notified of the posting in writing.

At the written request of the ACHP and/or NCSHPO, an annual meeting may occur to review implementation of the terms of the Program Comment and determine whether an amendment is needed. In the event that a meeting on the agency annual report is held by NPS, ACHP and NCSHPO will both be invited and it will occur no less than thirty (30) days after the agency annual report was posted on a PEPC (or other publicly accessible) website.

Three (3) years before the end of the duration of the Program Comment, the FPO will send a report to the ACHP and NCSHPO detailing progress made with the Program Comment, Mitigation Measures completed, National Register nomination status, challenges encountered, and the NPS's plans for the final two and a half (2.5) years of the Program Comment's duration. This will be known as the Program Comment wrap-up report.

In the final six (6) months of the ninth year of Program Comment's duration, regardless of the status of an amendment (if pursued), the FPO will submit an agency report to ACHP and NCSHPO detailing progress made and providing links to completed mitigation. NPS will also promptly post a summary of the agency report for public review on a public-facing PEPC (or other publicly accessible) website.

XI. Administrative Clauses and Discoveries

A. Duration and Amendment. The Program Comment will remain in effect until November 4, 2034 unless, prior to that time, the ACHP withdraws the Program Comment in accordance with 36 CFR 800.14(e)(6). Following such expiration or withdrawal, NPS will be required to comply with Section 106 through the process in 36 CFR part 800, or an applicable program alternative under 36 CFR 800.14.

During the first six (6) months of the ninth year of the issuance of the Program Comment, and at the time the wrap-up report is supposed to be issued, NPS and the ACHP will meet to determine whether the ACHP should consider an extension to its term via an amendment.

The Program Comment may be amended by the ACHP's Executive Director when the NPS, NCSHPO, or the ACHP's Executive Director proposes an amendment in writing to the other parties. In deciding whether to amend the Program Comment, the ACHP's Executive Director will consult with NPS and NCSHPO, and other parties as appropriate. The ACHP will publish notice in the Federal Register within thirty (30) days after the Executive Director's decision to amend the Program Comment, and also provide written notification to NPS, NCSHPO, and other parties as appropriate.

B. Discoveries. In the event that previously undocumented historic properties are encountered during an undertaking for which review has been completed under this Program Comment, the Park Superintendent will stop work and notify the SHPO/THPO, Indian Tribe(s), and/or Native Hawaiian organizations and the Native Hawaiian Community, as appropriate, within 48 hours, or as soon as reasonably possible. The Park Superintendent in consultation with Qualified Personnel and/or the CRM Team, will notify the parties of the park's proposed eligibility assessment for the property(ies) and any proposed measures to avoid, minimize, or mitigate adverse effects to historic property(ies), if present. The SHPO/THPO, Tribes, NHOs and Native Hawaiian Community will have 48 hours from receipt of the notice to provide the Superintendent with any comments on the proposal. The Superintendent will take into account any timely comments, in consultation with Qualified Personnel and/or the CRM Team, in implementing the proposal and proceed with the undertaking.

In the event the discovery includes human remains, funerary objects, sacred objects, or objects of cultural patrimony, the Park Superintendent will comply with the Native American Graves Protection and Repatriation Act (NAGPRA, 25 U.S.C. 3001 et seq.). Pursuant to an applicable NAGPRA Plan of Action or as otherwise required, the Park Superintendent will ensure that any human remains are left in situ, are not exposed, and remain protected while the park complies with relevant provisions of applicable Federal, State, and/or local laws.

When applicable, the Park Superintendent will consider the principles within the ACHP's Policy Statement on Burial Sites, Human Remains, and Funerary Objects, dated March 1, 2023. In implementing the Program Comment the NPS will fulfill its obligation to consult with Tribes and Native Hawaiian organizations and the Native Hawaiian Community consistent with all relevant Executive Orders, Secretary's Orders, the Department of the Interior Departmental Manual, and NPS Director's Orders and Related Guidance. NPS recognizes and considers Indigenous Knowledge in the Section 106 review process in accordance with the November 30, 2022 Guidance for Federal Departments and Agencies on Indigenous Knowledge issued by the White House Office of Science and Technology Policy and Council on Environmental Quality and the Departmental Manual (301 DM 7, Departmental Responsibilities for Consideration and Inclusion of Indigenous Knowledge in Departmental Actions and Scientific Research).

C. Emergencies. Emergency situations will be addressed via 36 CFR 800.12.

D. Section 106 Review for a Single Undertaking. Each proposed undertaking to be subject to the Program Comment should be reviewed in its entirety. Different program alternatives may not be used to fulfill Section 106 review responsibility for a single undertaking. To clarify, a Park Superintendent may not use more than one program alternative to fulfill that park's Section 106 compliance for a single undertaking.

E. Document Website. This document will initially be available at www.achp.gov and Park 106 Compliance—Section 106 Compliance Program (U.S. National Park Service) (nps.gov) ¹⁰ and will continue to be made available online by NPS as referenced in agency annual reports.

¹⁰ https://www.nps.gov/orgs/1966/park-106-compliance.htm.

(END OF DOCUMENT)

Authority: 36 CFR 800.14(e).

Dated: December 2, 2024.
Javier Marqués,
General Counsel.

[FR Doc. 2024-28519 Filed 12-6-24; 8:45 am]

BILLING CODE 4310-K6-P